DEPARTMENT OF EDUCATION

Office of Postsecondary Education; Overview Information; American Indian Tribally Controlled Colleges and Universities, and Alaska Native and Native Hawaiian-Serving Institutions; Notice Inviting Applications for New Awards for Fiscal Year (FY) 2005

Catalog of Federal Domestic Assistance (CFDA) Numbers: 84.031T, 84.031N and 84.031W.

Dates: Applications Available: February 3, 2005.

Deadline for Transmittal of Applications: March 21, 2005.

Deadline for Intergovernmental Review: May 19, 2005.

Eligible Applicants: Institutions of higher education that qualify as eligible institutions under the American Indian Tribally Controlled Colleges and Universities (TCCU), and Alaska Native and Native Hawaiian-Serving Institutions (ANNH) Programs may apply for grants under this notice. These programs are authorized by Title III, Part A of the Higher Education Act of 1965, as amended, and are known as Title III, Part A Programs. To qualify as an eligible institution under any Title III, Part A Program, an institution must satisfy several criteria, including one related to needy student enrollment and one related to average Educational and General (E&G) expenditures for a particular base year. The eligibility requirements are in a Notice Inviting Applications for Designation as Eligible Institutions for Fiscal Year 2005 that was published in the Federal Register on November 30, 2004 (69 FR 69589) and in program regulations in 34 CFR 607.2 through 607.5. The regulations may be accessed by visiting the following Department of Education Web site: http://www.ed.gov/news/fedregister.

Relationship Between Title III, Part A and Hispanic Serving Institution Programs

Note 1: A grantee under the Developing Hispanic-Serving Institutions (HIS) Program, authorized under Title V of the Higher Education Act of 1965, as amended (HEA), may not receive a grant under any Title III, Part A Program. Further, a current Developing HIS Program grantee may not give up its grant under the Developing HIS Program in order to receive a grant under any Title III, Part A Program.

Note 2: An institution that does not fall within the limitation described in Note 1 may apply for a FY 2005 grant under all Title III, Part A Programs for which it is eligible, as well as under the Developing HIS Program. However, a successful applicant may receive only one grant.

Estimated Available Funds: $8,691,201 for new awards under the ANNH Program and $17,748,000 for new awards under the TCCU Program. $15,591,342 for new awards under the SIP. A competition will not be held in FY 2005 for the SIP. Instead, the Department will fund new grants to eligible applicants on the FY 2004 SIP slate. We will fund only Individual Development Grant applications from the FY 2004 SIP slate.

For specific funding information, see the chart in the Award Information section of this notice.

Estimated Award Amount: See chart.

Estimated Number of Awards: See chart.

Note: The Department is not bound by any estimates in this notice. Applicants should periodically check the Title III, Part A Web site for further information on these programs. The address is: http://www.ed.gov/programs/iduestitle3a/index.html.

Project Period: 60 months for individual development grants, and 12 months for construction grants under the TCCU Program and renovation grants under the ANNH Program.

Full Text of Announcement

I. Funding Opportunity Description

Purpose of Program: The SIP, TCCU, and ANNH Programs are all authorized under Title III, Part A of the HEA. Each provides grants to eligible institutions of higher education to enable them to improve their academic quality, institutional management, and fiscal stability, and increase their self-sufficiency.

Program Authority: 20 U.S.C. 1057-1059d.

Applicable Regulations: (a) The Education Department General Administrative Regulations (EDGAR) in 34 CFR parts 74, 75, 77, 79, 82, 84, 85, 86, 97, 98, and 99. (b) The regulations for this program in 34 CFR part 607.

II. Award Information

Type of Award: Discretionary grants.

Estimated Available Funds: $8,691,201 for new awards under the ANNH Program and $17,748,000 for new awards under the TCCU Program. $15,591,342 for new awards under the SIP. A competition will not be held in FY 2005 for the SIP. Instead, the Department will fund new grants for eligible applicants on the FY 2004 SIP slate. We will fund only Individual Development Grant applications from the FY 2004 SIP slate.

For specific funding information, see the chart in this section of this notice.

Estimated Award Amount: See chart.

Estimated Number of Awards: See chart.

Note: The Department is not bound by any estimates in this notice. Applicants should periodically check the Title III, Part A Web site for further information on these programs. The address is: http://www.ed.gov/programs/iduestitle3a/index.html.

Project Period: 60 months for individual development grants and 12 months for construction grants under the TCCU Program and renovation grants under the ANNH Program.

Program name | Estimated award amount | Estimated number of awards
Alaska Native and Native Hawaiian Program:
—5-year Individual Development Grants (84.031N and 84.031W) | $500,000 per year | 5
—Renovation Grants | $750,000 for 1 year | 8
Tribally Controlled Colleges and Universities Program (84.031T):
—5-year Individual Development Grants | $400,000 per year | 7
—Construction and Renovation Grants | $1,500,000 for 1 year | 10
Strengthening Institutions Program (83.031A):
—5-year Individual Development Grants | $365,000 per year | * 44
Funding based on FY 2004 slate.

III. Eligibility Information

Eligible Applicants: Institutions of higher education that qualify as eligible institutions under the TCCU, and ANNH Programs may apply for grants under this notice. To qualify as an eligible institution under any Title III, Part A Program, an institution must satisfy several criteria, including one related to needy student enrollment and one related to average E&G expenditures for a particular base year. The eligibility requirements are set forth in a Notice Inviting Applications for Designation as Eligible Institutions for Fiscal Year 2005 that was published in the Federal Register on November 30, 2004 (69 FR 59589), and in program regulations contained in 34 CFR 607.2 through 607.5. The regulations may be accessed by visiting the following Department of Education Web site: http://www.ed.gov/news/fedregister.

Relationship Between Title III, Part A and Hispanic Serving Institution Programs

Note 1: A grantee under the HSI Program, authorized under Title V of the HEA, may not receive a grant under any Title III, Part A Program. Further, a current Developing HSI Program grantee may not give up its grant under the Developing HSI Program in order to receive a grant under any Title III, Part A Program.

Note 2: An institution that does not fall within the limitation described in Note 1 may apply for a FY 2005 grant under all Title III, Part A Programs for which it is eligible, as well as under the Developing HSI Program. However, a successful applicant may receive only one grant.

2. Cost Sharing or Matching: There is no cost sharing or matching requirement in any Title III, Part A Program, unless a grantee under the SIP or TCCU Program uses a portion of its grant for establishing or improving an endowment fund. If it does, it must match with non-Federal funds at least the amount of grant funds used for this purpose. 20 U.S.C. 1057(d)(2) and 1059c (c)(3)(B).

IV. Application and Submission Information

1. Address to Request Application Package: Dr. Maria E. Carrington, U.S. Department of Education, 1990 K Street, NW., 6th Floor, Washington, DC 20006-8513. Telephone: (202) 502-7777 or by e-mail: Maria.Carrington@ed.gov.

If you use a telecommunications device for the deaf (TDD), you may call the Federal Information Relay Service (FIRS) at 1-800-877-8339.

Individuals with disabilities may obtain a copy of the application package in an alternative format (e.g., Braille, large print, audiotape, or computer diskette) by contacting the contact person listed in this section.

2. Content and Form of Application Submission: Requirements concerning the content of an application, together with the forms you must submit, are in the application package for this program.

Page Limit: We have established mandatory page limits for the applications to be submitted under this notice. You must limit your application to the equivalent of no more than 70 pages for an individual development grant and 50 pages for a renovation grant under the ANNH Program; 70 pages for an individual development grant and 50 pages for a construction grant under the TCCU Program using the following standards:

• A “page” is 8.5″ × 11″, on one side only, with 1″ margins at the top, bottom, and both sides.

• Double space (no more than three lines per vertical inch) all text in the application narrative, including titles and headings. You may single space abstracts, footnotes, quotations, references, captions, tables and forms (including the ED Forms), however, you must still use font size 12.

• Use a font that is 12-point or larger.

• No appendices or attachments should be included with the application. If you include any attachments or appendices, these items will be counted for purposes of the page limit requirement.

We will reject your application if—

• You apply these standards and exceed the page limit; or

• You apply other standards and exceed the equivalent of the page limit;

3. Submission Dates and Times: Applications Available: February 3, 2005.

Deadline for Transmittal of Applications: March 21, 2005.

Applications for grants under this program must be submitted electronically using the Electronic Grant Application System (e-Application) available through the Department's e-Grants system. For information (including dates and times) about how to submit your application electronically or by mail or hand delivery if you qualify for an exception to the electronic submission requirement, please refer to section IV.6. Other Submission Requirements in this notice.

We will not consider an application that does not comply with the deadline requirements.

Deadline for Intergovernmental Review: May 19, 2005.

4. Intergovernmental Review: These programs are subject to Executive Order 12372 and the regulations in 34 CFR part 79. Information about Intergovernmental Review of Federal Programs under Executive Order 12372 is in the application package for these programs.

5. Funding Restrictions: We specify unallowable costs in 34 CFR 607.10. We reference additional regulations outlining funding restrictions in the Applicable Regulations section of this notice.

6. Other Submission Requirements: Applications for grants under these programs must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications.

Applications for grants under the Title III, Part A Programs—CFDA Numbers 84.031N, 84.031T and 84.031W must be submitted electronically using e-Application available through the Department's e-Grants system, accessible through the e-Grants portal page at: http://e-grants.ed.gov

While completing your electronic application, you will be entering data online that will be saved into a database. You may not e-mail an electronic copy of a grant application to us.

Please note the following:

• You must complete the electronic submission of your grant application by 4:30 p.m., Washington, DC time, on the application deadline date. The e-Application system will not accept an application for these programs after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Dr. Maria E. Carrington, U.S. Department of Education, 1990 K Street, NW., room 6033, Washington, DC 20006-8513. FAX: (202) 502-7861.

Your paper application must be submitted in accordance with the mail or hand delivery instructions described in this notice.

b. Submission of Paper Applications by Mail

If you qualify for any exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Numbers 84.031N, 84.031T and 84.031W), 400 Maryland Avenue, SW., Washington, DC 20202-4260, or

By mail through a commercial carrier: U.S. Department of Education, Application Control Center—Stop 4260, Attention: (CFDA Numbers 84.031N, 84.031T and 84.031W), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to electronic submission requirement, you (or a courier service) may deliver your paper application to the Department by hand. You must deliver the original and two copies of your application, by hand, on or before the application deadline date, to the Department at the following address: U.S. Department of Education, Application Control Center, Attention: (CFDA Numbers 84.031N, 84.031T and 84.031W), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for these programs are in 34 CFR 607.22.

2. Review and Selection Process: Additional factors we consider in selecting an application for an award are the tie-breaking situations described in 34 CFR 607.23. The Title III, Part A Program regulations require that we award one additional point to an application from an institution of higher education (IHE) that has an endowment fund for which the 2002-2003 market value per FTE student was less than the comparable average per FTE student at a similar type IHE. We also award one additional point to an application from an IHE that had expenditures for library materials in 2002-2003 per FTE student that were less than the comparable average per FTE student at a similar type IHE.

For the purpose of these funding considerations, an applicant must demonstrate that the market value of its endowment fund per FTE student and library expenditures per FTE student, were less than the average expenditure per FTE student when calculated using the data submitted by applicants for the year 2002-2003.

If a tie remains after applying the additional point(s), we will determine the ranking of applicants based on the lowest combined library expenditures per FTE student and endowment values per FTE student.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118 and 607.31.

4. Performance Measures: The Secretary has established the following key performance measures for assessing the effectiveness of the Title III, Part A Programs: (1) The percentage of Title III, Part A project goals relating to the improvement of academic quality that are met or exceeded will increase or be maintained over time. (2) The percentage of Title III, Part A goals relating to the improvement of student services and student outcomes that are met or exceeded will increase or be maintained over time. (3) The percentage of Title III, Part A project goals relating to the improvement of institutional management and fiscal stability that are met or exceeded will increase or be maintained over time.

VII. Agency Contact

FOR FURTHER INFORMATION CONTACT: Dr. Maria E. Carrington, U.S. Department of Education, 1990 K Street, NW., 6th Floor, Washington, DC 20006-8513. Telephone: (202) 502-7777 or by e-mail: Maria.Carrington@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 31, 2005.
Sally L. Stroup,
Assistant Secretary for Postsecondary Education.

[FR Doc. E5-413 Filed 2-2-05; 8:45 am]

BILLING CODE 4000-01-P